DEPARTMENT OF THE INTERIOR

National Park Service

[NPS-SER-GUIS-15248: PPSESEROC3, PPMPSAS1Y.YP0000]

Final General Management Plan and Final Environmental Impact Statement, Gulf Islands National Seashore, Florida and Mississippi

AGENCY: National Park Service, Interior.

ACTION: Notice of availability.

SUMMARY: Pursuant to 42 U.S.C. 4332(2)(C) of the National Environmental Policy Act of 1969, the National Park Service (NPS) announces the availability of a Final Environmental Impact Statement for the General Management Plan (Final EIS/GMP) for Gulf Islands National Seashore (National Seashore), Florida and Mississippi. Consistent with NPS laws, regulations, and policies and the purpose of the National Seashore, the Final EIS/GMP will guide the management of the area over the next 20+ years.

DATES: The NPS will execute a Record of Decision (ROD) no sooner than 30 days following publication by the Environmental Protection Agency of its Notice of Availability of the Final EIS/GMP in the Federal Register.

ADDRESSES: Electronic copies of the Final EIS/GMP will be available online at http://parkplanning.nps.gov/GUIS. To request a copy, contact Larissa Read, National Park Service, 12795 W. Alameda Parkway, P.O. Box 25287, Denver Colorado 80225-0287, telephone (303) 969-2472. A limited number of compact disks and printed copies of the Final EIS/GMP will be made available at Gulf Islands National Seashore Headquarters, 1801 Gulf Breeze Parkway, Gulf Breeze, Florida 32563-5000.

FOR FURTHER INFORMATION CONTACT: Dan Brown, Superintendent, Gulf Islands National Seashore, 1801 Gulf Breeze Parkway, Gulf Breeze, Florida 32563-5000; telephone (850) 934-2604.

SUPPLEMENTARY INFORMATION: The Final EIS/GMP responds to, and incorporates agency and public comments received on the Draft EIS, which was available for public review from September 9, 2011, through December 9, 2011. A total of four public meetings were held on October 18, 2011, and November 8, 2011, at the Naval Live Oaks Visitor Center in Gulf Breeze, Florida, and on October 20, 2011, and November 10, 2011, at the Davis Bayou Visitor Center in Ocean Springs, Mississippi. A total of 181 comments were received. The NPS responses to substantive agency and public comments are provided in Chapter 5 of the Final EIS/GMP, Consultation and Coordination section.

The Final EIS/GMP evaluates four alternatives for managing use and development of the National Seashore:

• Alternative 1, the No Action alternative, represents the continuation of current management action and direction into the future.

• Alternative 2 would reduce the level of infrastructure rebuilt on the barrier islands and allow natural processes to predominate.

• Alternative 3 is the NPS Preferred Alternative. Alternative 3 would enhance visitor education, research, and resource protection opportunities. The seashore would be managed as an outdoor classroom for exploring the natural and human history of the Gulf of Mexico's barrier islands and coastal environments. Interpretive programs would focus on illustrating how barrier islands act as protectors of the mainland coastline, and the part these islands have played in the last 5,000 years of historic human occupation.

• Alternative 4 would expand and diversify visitor opportunities throughout the seashore by leveraging additional partnerships.

When approved, the plan will guide the management of the National Seashore over the next 20+ years.

The responsible official for this Final EIS/GMP is the Regional Director, NPS Southeast Region, 100 Alabama Street SW., 1924 Building, Atlanta, Georgia 30303.

Dated: June 17, 2014.
Sherri L. Fields,
Acting Regional Director, Southeast Region.

[FR Doc. 2014-16662 Filed 7-15-14; 8:45 am]

BILLING CODE 4310-JD-P